DEPARTMENT OF TRANSPORTATION

Federal Aviation Administration

14 CFR Part 39

[Docket No. FAA-2018-0284; Product Identifier 2018-CE-014-AD; Amendment 39-19246; AD 2018-07-15]

RIN 2120-AA64

Airworthiness Directives; XtremeAir GmbH Airplanes

AGENCY: Federal Aviation Administration (FAA), DOT.

ACTION: Final rule; request for comments.

SUMMARY: We are adopting a new airworthiness directive (AD) for XtremeAir GmbH Model XA42 airplanes equipped with an engine mount part number XA42-7120-151. This AD results from mandatory continuing airworthiness information (MCAI) issued by the aviation authority of another country to identify and address an unsafe condition on an aviation product. The MCAI describes the unsafe condition as cracking of the diagonal strut of the engine mount frame. We are issuing this AD to require actions to address the unsafe condition on these products.

DATES: This AD is effective April 30, 2018.

The Director of the Federal Register approved the incorporation by reference of a certain publication listed in the AD as of April 30, 2018.

We must receive comments on this AD by May 24, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact XtremeAir GmbH, Harzstrasse 2, Am Flughafen Cochstedt, D-39444 Hecklingen, Germany; phone: +49 39267 60999 0; fax: +49 39267 60999 20; email: info@xtremeair.de; internet: https://www.xtremeair.com. You may view this referenced service information at the FAA, Policy and Innovation Division, 901 Locust, Kansas City, Missouri 64106. For information on the availability of this material at the FAA, call (816) 329-4148. It is also available on the internet at http://www.regulations.gov by searching for locating Docket No. FAA-2018-0284.

Examining the AD Docket

You may examine the AD docket on the internet at http://www.regulations.gov by searching for and locating Docket No. FAA-2018-0284; or in person at Docket Operations between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Policy and Innovation Divsion, 901 Locust, Room 301, Kansas City, Missouri 64106; telephone: (816) 329-4165; fax: (816) 329-4090; email: jim.rutherford@faa.gov.

SUPPLEMENTARY INFORMATION:

Discussion

The European Aviation Safety Agency (EASA), which is the Technical Agent for the Member States of the European Community, has issued EASA AD No. 2018-0050-E, dated March 2, 2018 (referred to after this as “the MCAI”), to correct an unsafe condition for XtremeAir GmbH Model XA42 airplanes. The MCAI states:

During a scheduled maintenance inspection of an XA42 aeroplane, a crack was detected on a diagonal strut of engine mount frame P/N XA42-7120-151.

This condition, if not detected and corrected, could lead to crack growth and subsequently partial or complete failure of the structural joint, possibly resulting in in-flight detachment of the engine and consequent loss of control of the aeroplane, and/or injury to persons on the ground.

Prompted by this finding, XtremeAir issued the SB to provide inspection instructions.

For the reason described above, this [EASA] AD requires repetitive inspections of the affected part and, depending on findings, replacement.

This [EASA] AD is considered interim action and further AD action may follow.

You may examine the MCAI on the internet at http://www.regulations.gov by searching for and locating Docket No. FAA-2018-0284.

Related Service Information Under 1 CFR Part 51

XtremeAir GmbH has issued XtremeAir Mandatory Service Bulletin SB-XA42-2018-006, Issue A.00, dated March 2, 2018. The service information describes procedures for inspection of the engine mount for cracks and replacement of the engine mount if necessary. This service information is reasonably available because the interested parties have access to it through their normal course of business or by the means identified in the ADDRESSES section of the AD.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because cracking of the engine mount frame could lead to in-flight detachment of the engine and result in loss of control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2018-0284; Directorate Identifier 2018-CE-014-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 13 products of U.S. registry. We also estimate that it would take about .5 work-hour per product to comply with the basic requirements of this AD. The average labor rate is $85 per work-hour.

Based on these figures, we estimate the cost of the AD on U.S. operators to be $552.50, or $42.50 per product.

In addition, we estimate that any necessary follow-on actions would take about 24 work-hours and require parts costing $5,000, for a cost of $7,040.00 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2018-07-15 XtremeAir GmbH: Amendment 39-19246; Docket No. FAA-2018-0284; Directorate Identifier 2018-CE-014-AD.

(a) Effective Date

This airworthiness directive (AD) becomes effective April 30, 2018.

(b) Affected ADs

None.

(c) Applicability

This AD applies to XtremeAir GmbH Model XA42 airplanes, all serial numbers, that are:

(1) Equipped with an engine mount part number (P/N) XA42-7120-151; and

(2) certificated in any category.

(d) Subject

Air Transport Association of America (ATA) Code 71: Power Plant.

(e) Reason

This AD was prompted by mandatory continuing airworthiness information (MCAI) issued by the aviation authority of another country to identify and address an unsafe condition on an aviation product. The MCAI describes the unsafe condition as cracking of the diagonal strut of the engine mount frame. We are issuing this AD to detect and address cracking of the engine mount frame, which could lead to detachment of the engine in-flight and result in loss of control.

(f) Actions and Compliance

Unless already done, do the following actions in paragraphs (f)(1) through (4) of this AD.

(1) Before the next acrobatic flight after April 30, 2018 (the effective date of this AD) or within 50 hours time-in-service after the installation of P/N XA42-7120-151 engine mount on the airplane, whichever occurs later, and repetitively thereafter at intervals not to exceed 10 acrobatic flight hours, inspect the engine mount following the Accomplishment Instructions in XtremeAir Mandatory Service Bulletin SB-XA42-2018-006, Issue A.00, dated March 2, 2018.

(2) After the initial inspection required in paragraph (f)(1) of this AD, acrobatic flight hours must be recorded in the maintenance records. For the purpose of this AD, we define acrobatic flight as “flight during which a load factor of 6g is exceeded.”

(3) If a crack is found during any inspection required in paragraph (f)(1) of this AD, before further flight, replace the engine mount with a serviceable part following the Accomplishment Instructions in XtremeAir Mandatory Service Bulletin SB-XA42-2018-006, Issue A.00, dated March 2, 2018. Replacement of the engine mount does not eliminate the repetitive inspection requirement in paragraph (f)(1) of this AD.

(4) After the effective date of this AD, you may install a new or used P/N XA42-7120-151 engine mount on the airplane. The used P/N XA42-7120-151 engine mount must be inspected as specified in paragraph (f)(1) of this AD and found free of cracks before installation on the airplane. The repetitive inspection requirement in paragraph (f)(1) of this AD still applies.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Jim Rutherford, Aerospace Engineer, FAA, Policy and Innovation Division, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Small Airplane Standards Branch, FAA; or the European Aviation Safety Agency (EASA).

(h) Special Flight Permit

A special flight permit is allowed for this AD per 14 CFR 39.23 with the following limitations: Acrobatic flights are prohibited.

(i) Related Information

Refer to MCAI, EASA AD No. 2018-0050-E, dated March 2, 2018, for related information. You may examine the MCAI on the internet at http://www.regulations.gov by searching for and locating Docket No. FAA-2018-0284.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) XtremeAir Mandatory Service Bulletin SB-XA42-2018-006, Issue A.00, dated March 2, 2018.

(ii) Reserved.

(3) For XtremeAir service information identified in this AD, contact XtremeAir GmbH, Harzstrasse 2, Am Flughafen Cochstedt, D-39444 Hecklingen, Germany; phone: +49 39267 60999 0; fax: +49 39267 60999 20; email: info@xtremeair.de; internet: https://www.xtremeair.com.

(4) You may view this service information at the FAA, Policy and Innovation Division, 901 Locust, Kansas City, Missouri 64106. For information on the availability of this material at the FAA, call (816) 329-4148. It is also available on the internet at http://www.regulations.gov by searching for locating Docket No. FAA-2018-0284.

(5) You may view this service information that is incorporated by reference at the National Archives and Records Administration (NARA). For information on the availability of this material at NARA, call 202-741-6030, or go to: http://www.archives.gov/federal-register/cfr/ibr-locations.html.

Issued in Kansas City, Missouri, on March 30, 2018.
Pat Mullen,
Acting Deputy Director, Policy & Innovation Division, Aircraft Certification Service.

[FR Doc. 2018-06949 Filed 4-6-18; 8:45 am]

BILLING CODE 4910-13-P